DEPARTMENT OF THE INTERIOR

National Park Service

[NPS-NER-CACO-21002; PPWONRADE PMP00IE05.YP0000]

Final Environmental Impact Statement for the Herring River Restoration Project, Cape Cod National Seashore, Massachusetts

AGENCY: National Park Service, Interior.

ACTION: Notice of Availability.

SUMMARY: The National Park Service (NPS) announces the availability of a Final Environmental Impact Statement (FEIS) for the Herring River Restoration Project in Cape Cod National Seashore, Massachusetts. The FEIS provides a systematic analysis of alternative approaches to restore the Herring River estuary to a more productive and natural condition after a century of diking and draining.

DATES: The NPS will execute a Record of Decision not sooner than 30 days after the date of publication of the NOA in the Federal Register by the Environmental Protection Agency.

ADDRESSES: Electronic versions of the complete document are available online at http://www.nps.gov/caco/ and http://parkplanning.nps.gov/herring_river.

FOR FURTHER INFORMATION CONTACT: George E. Price, Jr., Superintendent, Cape Cod National Seashore, 99 Marconi Site Road, Wellfleet, MA 02267; telephone (508) 771-2144.

SUPPLEMENTARY INFORMATION: The Herring River Restoration Project is a joint project of the Cape Cod National Seashore, the Town of Wellfleet, the Town of Truro, the Massachusetts Division of Ecological Restoration, the U.S. Fish and Wildlife Service, the National Oceanic and Atmospheric Administration, and the Natural Resource Conservation Service. The purpose of this project is to restore self-sustaining coastal habitats on a large portion of the 1,100-acre Herring River estuary in Wellfleet and Truro, Massachusetts, where wetland resources and natural ecosystem functions have been severely damaged by 100 years of tidal restriction and salt marsh drainage. The goal is to balance tidal restoration objectives with flood control by allowing the highest tide range practicable while also ensuring flood proofing and protection of vulnerable properties.

The Herring River is the largest estuary on outer Cape Cod, encompassing more than 1,100 acres of degraded wetlands in a complex network of five valleys: The Herring River, Mill Creek, Pole Dike Creek, Bound Brook, and Duck Harbor. The Chequessett Neck Road dike was built in 1908 at the mouth of the Herring River to restrict natural tidal flows. Ditches were constructed to drain the normally saturated flood plain soil. The once extensive salt marshes have been transformed into stands of invasive plants, shrubby thickets, and forests. The old salt marsh peat, deprived of the tides, has decomposed and compressed, sinking the surface of the flood plain as much as three feet. The decomposition of peat has released sulfuric acid that kills fish and other aquatic life, and low summertime dissolved oxygen has also harmed aquatic life.

The FEIS analyzes three action alternatives and the no action alternative, as described below:

Alternative A would leave in place the current tide control structure at Chequessett Neck Road and continue management of the estuary without restoration.

Alternative B would employ an adaptive management strategy to restore tides in the lower reach of the Herring River up to a maximum high tide of approximately six feet. At this tide level flood mitigation of sensitive properties can be achieved without a secondary dike at Mill Creek.

Alternative C would employ an adaptive management strategy to restore tides up to the maximum Chequessett Neck Road dike capacity (10 foot vertical tide gate opening) with a new dike at Mill Creek that blocks all tidal influence. This alternative would maximize restoration in all sub-basins except Mill Creek. Mill Creek would remain unrestored, but no new flood proofing measures would be needed in Mill Creek.

Alternative D would employ an adaptive management strategy to restore tides up to the maximum Chequessett Neck Road dike capacity (10 foot vertical tide gate opening) with a new dike at Mill Creek and Pole Dike Creek. Mill Creek and Pole Dike Creek tides would be controlled by these secondary structures to the maximum levels that can be achieved after flood proofing several low-lying properties. Tidal restoration would be maximized in all other sub-basins.

For Alternatives B and D, two options are considered for mitigating project impacts to the Chequessett Yacht & Country Club (CYCC) golf course, a private golf course in Mill Creek: (1) Raise low-lying fairways a minimum of two feet above proposed inundation levels, or (2) relocate low-lying fairways to an undeveloped upland area owned by CYCC.

Under all Action Alternatives, there is the potential for the restoration of natural tidal flow to result in impacts to private properties. Any such impacts would be addressed through mitigation measures such as raising or relocating affected buildings, driveways or wells, building berms to protect structures, and/or limiting water levels across entire sub-basins. The cost of these impact mitigation measures will be borne by the Project. Water surface elevations within any sub-basin will not be increased until the necessary impact mitigation is in place.

Alternative D, with the option to raise existing low-lying fairways a minimum of two feet above proposed inundation levels, has been identified as the NPS Preferred Alternative. This alternative best fulfills the restoration objectives of the project while mitigating adverse impacts to developed properties.

In response to agency and public comment, several aspects of the alternatives have been updated in chapter 2 of the FEIS. Key updates include adding a tide control structure at the Pole Dike Creek Road and refining options for preventing tidal flow impacts to High Toss Road. Also, design details have progressed on other key project components, including the proposed new Chequessett Neck Road dike and Mill Creek dikes. Relevant updates have been added to the alternatives description, including information about staging area locations and canoe/kayak access. Updates have also been made to key parts of Chapters 3 and 4, including a revised vegetation analysis that allows improved estimates of impacts to special status species habitat, updated information about newly-listed federal species (Northern Long-eared Bat and Red Knot), and dismissal of changes to FEMA flood insurance maps.

Authority: 42 U.S.C. 4321 et seq.

Dated: June 2, 2016.
Michael A. Caldwell,
Regional Director, National Park Service, Northeast Region.

[FR Doc. 2016-14570 Filed 6-20-16; 8:45 am]

BILLING CODE 4310-WV-P